DEPARTMENT OF COMMERCE

Economic Development Administration

National Advisory Council on Innovation and Entrepreneurship (NACIE); Solicitation of Applications and Nominations

AGENCY: Economic Development Administration, Department of Commerce.

ACTION: Notice of opportunity to apply for membership on the National Advisory Council on Innovation and Entrepreneurship (NACIE).

SUMMARY: The Department of Commerce (DOC) is currently seeking applications for membership on the National Advisory Council on Innovation and Entrepreneurship (NACIE). NACIE advises the Secretary of Commerce (the Secretary) on matters related to accelerating innovation and entrepreneurship, advancing the commercialization of research and development, promoting workforce development, and other related matters.

DATES: Applications for consideration for membership must be received by the U.S. Economic Development Administration (EDA) by 5:00 p.m. Eastern Time (ET) on December 15, 2024. EDA will continue to accept applications under this notice for three years from the deadline to fill any vacancies.

ADDRESSES: Please submit application information by email to nacie@doc.gov.

FOR FURTHER INFORMATION CONTACT: For further information, interested parties can contact Eric Smith, Acting Deputy Assistant Secretary for Policy at telephone: +1 202 482 8001; email: nacie@doc.gov.

SUPPLEMENTARY INFORMATION: An agency within the U.S. Department of Commerce (DOC), EDA invests in communities and supports regional collaboration to create jobs for U.S. workers, promote American innovation, and accelerate long-term sustainable economic growth. The mission of EDA is to lead the federal economic development agenda by promoting competitiveness and preparing the nation's regions for growth and success in the worldwide economy. Additional information regarding EDA can be found at https://eda.gov/.

NACIE's establishment is authorized by section 25(c) of the Stevenson-Wydler Technology Innovation Act of 1980, as amended, 15 U.S.C. 3720(c). Additional information regarding NACIE can be found at https://www.eda.gov/strategic-initiatives/national-advisory-council-on-innovation-and-entrepreneurship.

EDA is accepting applications and nominations for membership on NACIE for one-year, two-year, and three-year terms beginning on the date of appointment. Members will be selected based on their ability to advise the Secretary on matters relating to the acceleration of innovation and the support for and expansion of entrepreneurship including but not limited to the matters set forth in 15 U.S.C. 3720(b) and

• strategies to support geographic diversification and growth of America's innovation clusters and technology hubs all throughout the United States;

• the development of federal policy and program recommendations, through policy and program vehicles such as the CHIPS and Science Act and the Inflation Reduction Act, to support economic growth, resilience, high-growth entrepreneurship, and innovation across business sectors and geographies;

• policies that increase equitable access to, and representation in, entrepreneurship opportunities by historically excluded populations, communities, and geographies;

• insights into opportunities to increase American innovation and competitiveness in industries of the future, including but not limited to artificial intelligence, biotechnology, advanced computing, advanced materials and manufacturing, cybersecurity, and clean energy technologies;

• the development and expansion of successful talent and workforce development initiatives to create high quality jobs and to support American innovation and competitiveness; and

• the identification and promotion of best practices that accelerate the commercialization of research and intellectual property.

NACIE will identify and recommend solutions to issues critical to driving the innovation economy, including enabling entrepreneurs and firms to successfully access and develop a skilled, globally competitive workforce. NACIE will also serve as a vehicle for ongoing dialogue with the innovation, entrepreneurship, and workforce development communities, including but not limited to business and trade associations. The duties of NACIE are solely advisory, and it shall report to the Secretary through EDA and the Office of the Secretary.

NACIE members shall be selected in a manner that ensures that NACIE is balanced and diverse, including diverse perspectives and expertise with regard to innovation, technology commercialization, and related capital and talent and workforce development issues. Considerations when making appointments will also include geographic diversity; diversity in the size of the appointee's company or organization; diversity of technology sector; and representation of workers, business and industry, academic institutions, nonprofit and nongovernmental organizations, and other stakeholders.

Additional factors which may be considered in the selection of NACIE members include each candidate's proven experience in the design, creation, or improvement of innovation systems; commercialization of research and development; entrepreneurship; business-driven talent development that leads to a globally competitive workforce; and the creation and growth of innovation- and entrepreneurship-focused ecosystems. Members' affiliations may include, but are not limited to, successful executive-level business leaders; entrepreneurs; innovators; investors; post-secondary education leaders; directors of workforce and training organizations; and other experts drawn from industry, government, academia, philanthropic foundations with a demonstrated track record of research or support of innovation, entrepreneurship, or workforce development, and non-governmental organizations. Applicants and nominees will be evaluated consistent with factors specified in this notice and their ability to carry out the goals of NACIE. Appointments will be made without regard to political affiliation.

Membership. Members shall serve at the discretion of the Secretary. Because members will be appointed as experts, members will be considered special government employees (SGEs). Members participating in NACIE meetings and events should expect to be responsible for their travel, living, and other personal expenses. Meetings will be held regularly and not less than twice annually, usually in Washington, DC. Members are required to attend a majority of NACIE's meetings. For the first meeting of the Council, members may be required to arrive one day early for onboarding and orientation activities.

Eligibility. Eligibility for membership is limited to (i) U.S. citizens who are not full-time employees of the United States government or of a foreign government; (ii) are not required to register with the Department of Justice as a foreign agent under the Foreign Agents Registration Act of 1938, as amended, and (iii) are not federally-registered lobbyists.

Application Procedure. For consideration, an applicant or nominator should submit:

(1) Applicant's or nominee's name and title;

(2) the applicant's or nominee's personal resume and short bio (fewer than 300 words);

(3) confirmation that the applicant or nominee meets all eligibility criteria, including a signed affirmative statement that the applicant is:

(i) a U.S. citizen who is not a full-time employee of the United States government or of a foreign government;

(ii) not required to register with the Department of Justice as a foreign agent under the Foreign Agents Registration Act of 1938, as amended; and

(iii) not a federally-registered lobbyist; and

(5) all relevant contact information, including mailing address, email address, phone number, and support staff information where relevant.

Applications and nominations must be submitted via email to nacie@doc.gov with a subject line that includes the text “[NACIE Application]” (without quotation marks).

Appointments of members to NACIE will be made by the Secretary.

Dated: October 22, 2024.
Peter Langlois,
Group Federal Officer.

[FR Doc. 2024-24865 Filed 10-24-24; 8:45 am]

BILLING CODE 3510-24-P